DEPARTMENT OF ENERGY

Energy Information Administration

Agency Information Collection Proposed Extension

AGENCY: U.S. Energy Information Administration (EIA), Department of Energy (DOE).

ACTION: Notice and request for comments.

SUMMARY: DOE invites public comment on the proposed collection of information, FE-746R “Natural Gas Imports and Exports”, as required under the Paperwork Reduction Act of 1995. DOE is requesting a three-year extension with changes of Form FE-746R, “Natural Gas Imports and Exports”. The information collection request supports DOE's Office of Fossil Energy and Carbon Management (FECM) in gathering critical information on the U.S. trade in natural gas, including liquefied natural gas (LNG). The data are used to monitor natural gas trade, assess the adequacy of U.S. energy resources to meet near and longer term domestic demands, and support various market and regulatory analyses done by FECM.

DATES: DOE must receive all comments on this proposed information collection no later than March 14, 2023. If you anticipate any difficulties in submitting your comments by the deadline, contact the person listed in the ADDRESSES section of this notice as soon as possible.

ADDRESSES: Submit comments electronically to Tu Tran at tu.tran@hq.doe.gov or mail comments to U.S. Energy Department (FE-34), Attn: Tu Tran, Office of Fossil Energy and Carbon Management, 1000 Independence Avenue SW, Washington, DC 20585.

FOR FURTHER INFORMATION CONTACT: If you need additional information or copies of the information collection instrument, send your request to Tu Tran, (202) 235-5873, tu.tran@hq.doe.gov. Copies of the information collection instruments and instructions can also be viewed at: https://www.energy.gov/fecm/articles/changes-fe-746-data-collection.

SUPPLEMENTARY INFORMATION: This information collection request contains:

(1) OMB No.: 1901-0294;

(2) Information Collection Request Title: “Natural Gas Imports and Exports;”

(3) Renewal with changes;

(4) Purpose: The Federal Energy Administration Act of 1974 (15 U.S.C. 761 et seq.) and the DOE Organization Act (42 U.S.C. 7101 et seq.) require EIA to carry out a centralized, comprehensive, and unified energy information program. This program collects, evaluates, assembles, analyzes, and disseminates information on energy resource reserves, production, demand, technology, and related economic and statistical information. Additionally, FECM is authorized to regulate natural gas imports and exports, including LNG, under 15 U.S.C. 717b. In order to carry out its statutory responsibilities, FECM requires anyone seeking to import or export natural gas to file an application and provide basic information on the scope and nature of the proposed import/export activity. Additionally, once an importer or exporter receives an authorization from FECM, they are required to submit monthly reports of all import and/or export transactions.

Specifically, the Form FE-746R requires the reporting of the following information by every holder of a DOE/FECM import or export authorization: the name of importer/exporter; country of origin/destination; international point of entry/exit; name of supplier; volume; price; transporters; U.S. geographic market(s) served; and duration of supply contract on a monthly basis. This information is used by both EIA and FECM to assess the adequacy of energy resources to meet near and longer term domestic demands, and by FECM in the management of its natural gas regulatory program.

Data collected on Form FE-746R are published in Natural Gas Imports and Exports, LNG Monthly Report, and in EIA official statistics on U.S. natural gas supply and disposition. In addition, the data are used to monitor the North American natural gas trade, which, in turn, enables the Federal government to perform market and regulatory analyses; improve the capability of industry and the government to respond to any future energy-related supply problems; and keep the general public informed of international natural gas trade.

(4a) Proposed Changes to Information Collection: FECM will use the exemptions under the Freedom of Information Act (FOIA) to protect prices of LNG exports, but not other natural gas price data. Import and export prices for all forms of natural gas at the transaction level will be considered public information and may be publicly released in company identifiable form, excluding prices for domestically produced LNG exports. The data protection statement for information reported on Form FE-746R will read:

“Information reported on Form FE-746R is considered public information and may be publicly released in company identifiable form, except that the following information will be protected and not disclosed to the public to the extent that it satisfies the criteria for exemption under the Freedom of Information Act (FOIA), 5 U.S.C. 552, as amended, and the Department of Energy (DOE) regulations, 10 CFR 1004.11, implementing the FOIA:

• LNG export prices;

• Name of the Specific Purchaser/End User for all forms of natural gas imports and exports, including LNG, for all modes of transportation except by pipeline; and

• Heat content for all forms of natural gas imported and exported.”

Published LNG export prices will be aggregated for all LNG cargoes by month at each point of export. Additionally, there may be some statistics that are based on data from fewer than three import or export transactions. In these cases, it may be possible for a knowledgeable person to closely estimate the information reported by a specific respondent.

Data protection methods will not be applied to the aggregate statistical data published from submissions on Form FE-746R.

(5) Annual Estimated Number of Respondents: 353.

(6) Annual Estimated Number of Total Responses: 4,236.

(7) Annual Estimated Number of Burden Hours: 12,708.

(8) Annual Estimated Reporting and Recordkeeping Cost Burden: The cost of the burden hours is estimated to be $1,133,419. EIA estimates that respondents will have no additional costs associated with the surveys other than the burden hours and the maintenance of the information during the normal course of business.

Comments are invited on whether or not: (a) The proposed collection of information is necessary for the proper performance of agency functions, including whether the information will have a practical utility; (b) EIA's estimate of the burden of the proposed collection of information, including the validity of the methodology and assumptions used, is accurate; (c) EIA can improve the quality, utility, and clarity of the information it will collect; and (d) EIA can minimize the burden of the collection of information on respondents, such as automated collection techniques or other forms of information technology.

Statutory Authority: 15 U.S.C. 772(b), 42 U.S.C. 7101 et seq., 15 U.S.C. 717b.

Signed in Washington, DC, on January 9, 2023.
Samson A. Adeshiyan,
Director, Office of Statistical Methods & Research, U.S. Energy Information Administration.

[FR Doc. 2023-00591 Filed 1-12-23; 8:45 am]

BILLING CODE 6450-01-P